DEPARTMENT OF TRANSPORTATION

Federal Aviation Administration

14 CFR Part 39

[Docket No. FAA-2005-22034; Directorate Identifier 2004-NM-182-AD]

RIN 2120-AA64

Airworthiness Directives; Gulfstream Model GV and GV-SP Series Airplanes

AGENCY: Federal Aviation Administration (FAA), Department of Transportation (DOT).

ACTION: Supplemental notice of proposed rulemaking (NPRM); reopening of comment period.

SUMMARY: The FAA is revising an earlier proposed airworthiness directive (AD) for all Gulfstream Model GV and certain Model GV-SP series airplanes. The original NPRM would have required a one-time inspection of the left and right aileron and elevator actuators to determine the part and serial numbers of each actuator, repetitive inspections of suspect actuators to detect broken damper shafts, and replacement of any actuator having a broken damper shaft. The original NPRM would also have required that operators report any broken damper shaft they find to the FAA. The original NPRM would also have provided an optional terminating action for the repetitive inspection requirements of the proposed AD. The original NPRM resulted from reports of broken or cracked damper shafts within the aileron and elevator actuator assemblies. This action revises the original NPRM by proposing to mandate the previously optional terminating action. We are proposing this supplemental NPRM to prevent broken damper shafts, which could result in locking of an aileron or elevator actuator (hard-over condition), which would activate the hard-over protection system (HOPS), resulting in increased pilot workload and consequent reduced controllability of the airplane.

DATES: We must receive comments on this supplemental NPRM by April 24, 2006.

ADDRESSES: Use one of the following addresses to submit comments on this supplemental NPRM.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Gulfstream Aerospace Corporation, Technical Publications Dept., P.O. Box 2206, Savannah, Georgia 31402-9980, for service information identified in this proposed AD.

FOR FURTHER INFORMATION CONTACT: Gerald Avella, Aerospace Engineer, Systems and Equipment Branch, ACE-119A, FAA, Atlanta Aircraft Certification Office, One Crown Center, 1895 Phoenix Boulevard, suite 450, Atlanta, Georgia 30349; telephone (770) 703-6066; fax (770) 703-6097.

SUPPLEMENTARY INFORMATION:

Comments Invited

We invite you to submit any relevant written data, views, or arguments regarding this supplemental NPRM. Send your comments to an address listed in the ADDRESSES section. Include the docket number “Docket No. FAA-2005-22034; Directorate Identifier 2004-NM-182-AD”; at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this supplemental NPRM. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level in the Nassif Building at the DOT street address stated in ADDRESSES. Comments will be available in the AD docket shortly after the Docket Management System receives them.

Discussion

We proposed to amend 14 CFR part 39 with a notice of proposed rulemaking (NPRM) for an AD (the “original NPRM”) for all Gulfstream Model GV and certain Model GV-SP series airplanes. The original NPRM was published in the Federal Register on August 8, 2005 (70 FR 45581). The original NPRM proposed to require a one-time inspection of the left and right aileron and elevator actuators to determine the part and serial numbers of each actuator, repetitive inspections of suspect actuators to detect broken damper shafts, and replacement of any actuator having a broken damper shaft. The original NPRM proposed to require that operators report any broken damper shaft they find to the FAA. The original NPRM also proposed to provide an optional terminating action for the repetitive inspection requirements of the proposed AD.

Comments

We have considered the following comments on the original NPRM.

Request for Correction of the Statement of Proposed Requirements

One commenter, Gulfstream Aerospace, requests that we correct our position in the “FAA's Determination and Requirements of the Proposed AD” section of the original NPRM that states that we are not requiring the terminating action (i.e., replacement of all suspect actuators) because the necessary replacement parts are not yet available. Gulfstream asserts that the new, improved replacement actuators are now available and that airplane owners are required to replace the actuators during the recall time, after which the replacement cost will be charged to the customer.

From this comment, we infer that Gulfstream is ultimately requesting that we revise the original NPRM to require the previously optional terminating replacement. We agree that the terminating replacement should now be required. We have confirmed that the necessary replacement actuators are available. Therefore, we have revised the original NPRM to require the previously optional terminating actuator replacement and have revised the “FAA's Determination and Requirements of the Supplemental NPRM” section as requested by Gulfstream.

Request for Addition of Gulfstream GV Customer Bulletin 124

The other commenter, the Federal Bureau of Investigation (FBI), requests that we add Gulfstream GV Customer Bulletin 124, dated December 8, 2004, to the proposed requirements. The FBI states that this bulletin lists the part numbers (P/Ns) for the new actuators necessary for the terminating replacement. The FBI also asserts that adding this bulletin will prevent operators who have already done the replacement from being required to do it again.

We agree that Gulfstream GV Customer Bulletin 124, dated December 8, 2004, should be added to the proposed requirements. As we stated previously, we have revised the original NPRM to propose to require the terminating replacement. Because Gulfstream GV Customer Bulletin 124 does contain the necessary P/Ns for Model GV series airplanes to do the replacement, we have added it to this supplemental NPRM as the source of service information for those airplanes to do the replacement. We have also added Gulfstream G500 and G550 Customer Bulletins 6, both dated December 8, 2004, to this supplemental NPRM as the source of service information for Model GV-SP series airplanes to do the terminating replacement. These bulletins are described below.

Relevant Service Information

We have reviewed the following Gulfstream customer bulletins:

Table.—Relevant Service Information
Model | Customer bulletin | Dated
GV-SP series airplanes | Gulfstream G500 Customer Bulletin 6 | December 8, 2004.
GV-SP series airplanes | Gulfstream G550 Customer Bulletin 6 | December 8, 2004.
GV series airplanes | Gulfstream GV Customer Bulletin 124 | December 8, 2004.

The customer bulletins describe procedures for doing a one-time inspection of the left and right aileron and elevator actuators to determine the P/N and serial number (S/N) of each actuator and for replacing identified actuators. The customer bulletins also describe procedures for reporting accomplishment of the actions and returning affected actuators to Gulfstream. Accomplishing the actions specified in the service information is intended to adequately address the unsafe condition.

FAA's Determination and Proposed Requirements of the Supplemental NPRM

The changes discussed above expand the scope of the original NPRM; therefore, we have determined that it is necessary to reopen the comment period to provide additional opportunity for public comment on this supplemental NPRM.

Differences Between the Proposed AD and New Customer Bulletins

Gulfstream G500 Customer Bulletin 6 is effective to all Gulfstream Model G500 series airplanes, and Gulfstream G550 Customer Bulletin 6 is effective to all Gulfstream Model G550 series airplanes. The supplemental NPRM remains applicable only to Gulfstream Model GV-SP series airplanes having S/Ns 5001 through 5052 inclusive. We have determined that Model GV-SP series airplanes having S/Ns 5053 and subsequent are equipped with non-suspect actuators during production.

Gulfstream G500 and G550 Customer Bulletins 6 and Gulfstream GV Customer Bulletin 124 do not specify what to do if an installed actuator has either a P/N or S/N that is missing or is unreadable. This supplemental NPRM would require that those actuators also be inspected to detect broken damper shafts as if they have a P/N and S/N listed in the customer bulletins.

These customer bulletins specify replacing a subject actuator having a P/N and S/N listed in the customer bulletins, but they do not specify the type of replacement actuator. This supplemental NPRM would require replacement with either:

• A new or serviceable actuator having a subject P/N and S/N identified in Table 1 “Serial Number Effectivity Table” in Gulfstream G500 and G550 Customer Bulletins 6 and Gulfstream GV Customer Bulletin 124, as applicable, provided the actuator has been and continues to be inspected for broken damper shafts in accordance with the requirements of this supplemental NPRM; or

• A new or serviceable actuator having a new P/N identified in Table 2 “Retrofit Part Number Replacement Table” in Gulfstream G500 and G550 Customer Bulletins 6 and Gulfstream GV Customer Bulletin 124, as applicable, regardless of the S/N. Replacing an actuator with an actuator having a new P/N, regardless of S/N, would terminate the requirements of this supplemental NPRM for that actuator only.

The customer bulletins do not specify reporting findings of broken damper shafts. This supplemental NPRM would require that findings of all broken damper shafts be reported to the FAA. When the unsafe condition addressed by an AD is likely due to a manufacturer's quality control (QC) problem, a reporting requirement is instrumental in ensuring that we can gather as much information as possible regarding the extent and nature of the QC problem or breakdown, especially in cases where the data may not be available through other established means. This information is necessary to ensure that proper corrective action will be taken. Based on the results of these reports, we may determine that further corrective action is warranted.

The Accomplishment Instructions of the customer bulletins specify to submit the Service Reply Card or compliance information to the manufacturer. This supplemental NPRM does not include those actions.

These differences have been coordinated with the airplane manufacturer.

Clarification of Terminating Action

The terminating action proposed in this supplemental NPRM is replacement of the suspect actuators with actuators having new P/Ns listed in Table 2 “Retrofit Part Number Replacement Table” in Gulfstream G500 and G550 Customer Bulletins 6 and Gulfstream GV Customer Bulletin 124, as applicable. This is not made clear in the customer bulletins.

Costs of Compliance

There are about 214 airplanes of the affected design in the worldwide fleet. This proposed AD would affect about 174 airplanes of U.S. registry. The following table provides the estimated costs for U.S. operators to comply with this proposed AD. Gulfstream will provide replacement parts at no cost to operators.

Estimated Costs
Action | Gulfstream airplane model | Work hours | Average labor rate per hour | Cost per airplane | Fleet cost
Inspection for part/serial number | GV and GV-SP series airplanes | 1 | $80 | $80 | $13,920.
Inspection of actuators, per inspection cycle (if accomplished) | GV series airplanes | 14 per actuator | 80 | 1,120 | $194,880, per actuator, per inspection cycle.
| GV-SP series airplanes | 4 per actuator | 80 | 320 | $55,680, per actuator, per inspection cycle.
Terminating replacement | GV series airplanes | 26 per aileron actuator (2 actuators per airplane) | 80 | 4160 | $723,840.
|  | 52 per elevator actuator (2 actuators per airplane) | 80 | 8,320 | $1,447,680.
| GV-SP series airplanes | 32 per aileron actuator (2 actuators per airplane) | 80 | 5,120 | $890,880.
|  | 52 per elevator actuator (2 actuators per airplane) | 80 | 8,320 | $1,447,680.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Gulfstream Aerospace Corporation: Docket No. FAA-2005-22034; Directorate Identifier 2004-NM-182-AD.

Comments Due Date

(a) The FAA must receive comments on this AD action by April 24, 2006.

Affected ADs

(b) None.

Applicability

(c) This AD applies to all Gulfstream Model GV series airplanes, and Model GV-SP series airplanes having serial numbers (S/Ns) 5001 through 5052 inclusive; certificated in any category.

Unsafe Condition

(d) This AD results from reports of broken or cracked damper shafts within the aileron and elevator actuator assemblies. We are issuing this AD to prevent broken damper shafts, which could result in locking of an aileron or elevator actuator (hard-over condition), which would activate the hard-over protection system (HOPS), resulting in increased pilot workload and consequent reduced controllability of the airplane.

Compliance

(e) You are responsible for having the actions required by this AD performed within the compliance times specified, unless the actions have already been done.

Service Information References

(f) The term “customer bulletin,” as used in this AD, means the Accomplishment Instructions of the applicable Gulfstream customer bulletins specified in Table 1 of this AD. Although the customer bulletins recommend completing and submitting the Service Reply Card or reporting compliance with the customer bulletin, those actions are not required by this AD.

Table 1.—Applicable Gulfstream Customer Bulletins
For— | For model— | Use— | Dated—
(1) Initial/repetitive inspections of and corrective actions for identified subject actuators | (i) GV-SP series airplanes (ii) GV-SP series airplanes (iii) GV series airplanes | Gulfstream G500 Customer Bulletin 4 Gulfstream G550 Customer Bulletin 4 Gulfstream GV Customer Bulletin 123 | August 23, 2004. August 23, 2004. August 23, 2004.
(2) Terminating replacement of subject actuators | (i) GV-SP series airplanes (ii) GV-SP series airplanes | Gulfstream G500 Customer Bulletin 6 Gulfstream G550 Customer Bulletin 6 | December 8, 2004. December 8, 2004.
| (iii) GV series airplanes | Gulfstream GV Customer Bulletin 124 | December 8, 2004.

Inspection To Determine Actuator Part and Serial Numbers

(g) Within 500 flight hours after the effective date of this AD: Do a one-time inspection of the left and right aileron and elevator actuators to determine the part number (P/N) and S/N of each actuator, in accordance with the applicable customer bulletin.

No Subject Actuators Installed

(h) If no actuator with a P/N and S/N listed in Table 1 “Serial Number Effectivity Table” of the applicable customer bulletin is identified during the inspection required by paragraph (g) of this AD, no further action is required by this AD, except as required by paragraph (l) of this AD.

Initial and Repetitive Inspections of Subject Actuators

(i) For any actuator identified during the inspection required by paragraph (g) of this AD with a P/N and S/N listed in Table 1 “Serial Number Effectivity Table” of the applicable customer bulletin, and for actuators for which the P/N or S/N is missing or unreadable: Before further flight, do a detailed inspection of the identified actuator to detect a broken damper shaft, in accordance with the applicable customer bulletin.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(1) If no damper shaft is found broken: Repeat the inspection required by paragraph (i) of this AD thereafter at intervals not to exceed 500 flight hours, until the terminating replacement specified in paragraph (j) of this AD is accomplished.

Corrective Action for Subject Actuators

(2) If any damper shaft is found broken: Before further flight, do the action specified in paragraph (i)(2)(i), (i)(2)(ii), or (j) of this AD, in accordance with the applicable customer bulletin.

(i) Replace the actuator with a new or serviceable actuator having a P/N and S/N listed in Table 1 “Serial Number Effectivity Table” of the applicable customer bulletin, provided the new or serviceable actuator has been inspected in accordance with the requirements of paragraph (i) of this AD. Thereafter, repeat the inspection required by paragraph (i) of this AD for that actuator at intervals not to exceed 500 flight hours, until the terminating replacement specified in paragraph (j) of this AD is accomplished.

(ii) Replace the actuator with a new or serviceable actuator having a new P/N listed in Table 2 “Retrofit Part Number Replacement Table” of the applicable customer bulletin. This replacement terminates the requirements of this paragraph for that actuator only.

Terminating Replacement

(j) Within 24 months after the effective date of this AD: Replace all identified suspect actuators with new or serviceable actuators having a new P/N listed in Table 2 “Retrofit Part Number Replacement Table” of the applicable customer bulletin. This replacement terminates the requirements of this AD, except as required by paragraph (l) of this AD.

Reporting Requirement

(k) Submit a report of any broken damper shafts to the Manager, Atlanta Aircraft Certification Office (ACO), FAA, One Crown Center, 1895 Phoenix Boulevard, suite 450, Atlanta, Georgia 30349; fax (770) 703-6097. The report must be done at the applicable time specified in paragraph (k)(1) or (k)(2) of this AD. The report must include the inspection date, the airplane model and S/N, the actuator position (left or right aileron or elevator), and the actuator P/N and S/N. Information collection requirements contained in this AD have been approved by the Office of Management and Budget (OMB) under the provisions of the Paperwork Reduction Act (44 U.S.C. 3501 et seq.) and have been assigned OMB Control Number 2120-0056.

(1) If the inspection required by paragraph (i) of this AD is done after the effective date of this AD: Submit a report within 30 days after the inspection is done.

(2) If an inspection required by paragraph (i) of this AD was done before the effective date of this AD: Submit a report within 30 days after the effective date of this AD.

Parts Installation

(l) As of the effective date of this AD, no person may install an aileron or elevator actuator having a P/N and S/N specified in the applicable customer bulletin on any airplane, unless the actuator has been inspected according to paragraph (i) of this AD.

Special Flight Permit Prohibited

(m) Special flight permits (14 CFR 21.197 and 21.199) are not allowed if any broken damper shaft is found during any inspection required by paragraph (i) of this AD.

Alternative Methods of Compliance (AMOCs)

(n)(1) The Manager, Atlanta ACO, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Issued in Renton, Washington, on March 17, 2006.
Ali Bahrami,
Manager, Transport Airplane Directorate, Aircraft Certification Service.

[FR Doc. E6-4621 Filed 3-29-06; 8:45 am]

BILLING CODE 4910-13-P